NUCLEAR REGULATORY COMMISSION

[NRC-2022-0020]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from December 10, 2021, to January 6, 2022. The last monthly notice was published on December 28, 2021.

DATES: Comments must be filed by February 24, 2022. A request for a hearing or petitions for leave to intervene must be filed by March 28, 2022.

ADDRESSES: You may submit comments by any of the following methods; however, the NRC encourages electronic comment submission through the Federal rulemaking website:

• Federal rulemaking Website: Go to https://www.regulations.gov and search for Docket ID NRC-2022-0020. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001, telephone: 301-415-1118, email: Karen.Zeleznock@nrc.gov.

SUPPLEMENTARY INFORMATION:

I. Obtaining Information and Submitting Comments

A. Obtaining Information

Please refer to Docket ID NRC-2022-0020, facility name, unit number(s), docket number(s), application date, and subject when contacting the NRC about the availability of information for this action. You may obtain publicly available information related to this action by any of the following methods:

• Federal Rulemaking Website: Go to https://www.regulations.gov and search for Docket ID NRC-2022-0020.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2022-0020, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with section 50.91 of title 10 of the Code of Federal Regulations (10 CFR), “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Duke Energy Progress, LLC; Brunswick Steam Electric Plant, Unit 1; Brunswick County, NC; Duke Energy Progress, LLC; Brunswick Steam Electric Plant, Unit 2; Brunswick County, NC
Docket No(s) | 50-325, 50-324.
Application date | December 2, 2021.
ADAMS Accession No | ML21336A716.
Location in Application of NSHC | Pages 1-3 of the Enclosure.
Brief Description of Amendment(s) | The proposed amendments would revise the technical specifications (TS) to provide an exception to entering Mode 4 if both required Residual Heat Removal (RHR) shutdown cooling subsystems are inoperable based on TS Task Force (TSTF) Traveler TSTF-580, Revision 1, “Provide Exception from Entering Mode 4 With No Operable RHR Shutdown Cooling” (ADAMS Accession No. ML21025A232), and the associated NRC safety evaluation for TSTF-580, Revision 1 (ADAMS Accession No. ML21188A227).
Proposed Determination | NSHC.
Name of Attorney for Licensee, Mailing Address | Kathryn B. Nolan, Deputy General Counsel, Duke Energy Corporation, 550 South Tryon Street (DEC45A), Charlotte, NC 28202.
NRC Project Manager, Telephone Number | Luke Haeg, 301-415-0272.
Energy Harbor Nuclear Corp. and Energy Harbor Nuclear Generation LLC; Beaver Valley Power Station, Unit 2; Beaver County, PA
Docket No(s) | 50-412.
Application date | September 15, 2021.
ADAMS Accession No | ML21259A090.
Location in Application of NSHC | Pages 5-6 of the Enclosure.
Brief Description of Amendment(s) | Technical Specifications Task Force-547—The proposed amendment removes a required action that currently has a logic error and renumbers another required action.
Proposed Determination | NSHC.
Name of Attorney for Licensee, Mailing Address | Rick Giannantonio, General Counsel, Energy Harbor Nuclear Corp., Mail Stop A-GO-15, 76 South Main Street, Akron, OH 44308.
NRC Project Manager, Telephone Number | Sujata Goetz, 301-415-8004.
Energy Harbor Nuclear Corp. and Energy Harbor Nuclear Generation LLC; Beaver Valley Power Station, Units 1 and 2; Beaver County, PA
Docket No(s) | 50-334, 50-412.
Application date | August 29, 2021.
ADAMS Accession No | ML21242A125.
Location in Application of NSHC | Page 17-20 of Enclosure.
Brief Description of Amendment(s) | The proposed amendments would change Technical Specification 3.3.5, “Loss of Power (LOP) Diesel Generator (DG) Start and Bus Separation Instrumentation,” by revising Table 3.3.5-1, “Loss of Power Diesel Generator Start and Bus Separation Instrumentation.”
Proposed Determination | NSHC.
Name of Attorney for Licensee, Mailing Address | Steven Hamrick, Managing Attorney—Nuclear, Florida Power and Light Company, P.O. Box 14000, Juno Beach, FL 33408-0420.
NRC Project Manager, Telephone Number | Sujata Goetz, 301-415-8004.
Entergy Operations, Inc.; Waterford Steam Electric Station, Unit 3; St. Charles Parish, LA
Docket No(s) | 50-382.
Application date | August 25, 2021.
ADAMS Accession No | ML21237A544.
Location in Application of NSHC | Pages 7-9 of the Enclosure.
Brief Description of Amendment(s) | The proposed amendment would update the figures contained in Technical Specification 3.4.8.1, “Pressure/Temperature Limits,” for Waterford Steam Electric Station Unit 3 (Waterford 3). The existing pressure/temperature (P/T) limit curves will be extended from 32 to 55 effective full power years for the beltline, extended beltline and nozzle regions. The low temperature overpressure P/T region pressurizer pressure limit is being lowered from the current 554.1 pounds per square inch absolute (psia) to 534 psia to account for three reactor coolant pump operation, as described in Attachment 3 of the license amendment request.
Proposed Determination | NSHC.
Name of Attorney for Licensee, Mailing Address | Anna Vinson Jones, Assistant General Counsel, Entergy Services, Inc.,101 Constitution Avenue NW, Suite 200 East, Washington, DC 20001.
NRC Project Manager, Telephone Number | Jason Drake, 301-415-8378.
Exelon Generation Company, LLC; Quad Cities Nuclear Power Station, Units 1 and 2; Rock Island County, IL
Docket No(s) | 50-254, 50-265.
Application date | November 16, 2021.
ADAMS Accession No | ML21320A195.
Location in Application of NSHC | Pages 4-5 of Attachment 1, Section 4.3.
Brief Description of Amendment(s) | The proposed amendments would revise control rod scram time limits in Technical Specifications 3.1.4, “Control Rod Scram Times,” for Quad Cities Nuclear Power Station, Units 1 and 2, to regain margin for containment overpressure.
Proposed Determination | NSHC.
Name of Attorney for Licensee, Mailing Address | Tamra Domeyer, Associate General Counsel, Exelon Generation Company, LLC, 4300 Winfield Road, Warrenville, IL 60555.
NRC Project Manager, Telephone Number | Booma Venkataraman, 301-415-2934.
Holtec Decommissioning International, LLC and Holtec Indian Point 2, LLC; Indian Point Station Unit Nos. 1 and 2; Westchester County, NY; Holtec Decommissioning International, LLC and Holtec Indian Point 3, LLC; Indian Point Station Unit No. 3; Westchester County, NY
Docket No(s) | 50-247, 50-286, 50-003.
Application date | December 22, 2021.
ADAMS Accession No | ML21356B704.
Location in Application of NSHC | Enclosure 1 Section 5.2.
Brief Description of Amendment(s) | By letter dated December 22, 2021 and in accordance with 10 CFR 50.90, “Application for amendment of license, construction permit, or early site permit,” Holtec Decommissioning International, LLC (HDI), on behalf of Holtec Indian Point (IP) 2, LLC (IP1 & IP2) and Holtec Indian Point 3, LLC (IP3), collectively referred to as Indian Point Energy Center (IPEC)), requests an amendment to Provisional Operating License No. DPR-5 for IP1, Renewed Facility License No. DPR-26 for IP2, and Renewed Facility Operating License No. DPR-64 for IP3. The proposed license amendments would revise the IPEC Emergency Plan and Emergency Action Level scheme for the permanently shutdown and defueled condition at IPEC. The proposed changes are being submitted to the U.S. Nuclear Regulatory Commission for approval prior to implementation, as required under 10 CFR 50.54(q)(4) and 10 CFR part 50, appendix E, section IV.B.2.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Zahira Cruz Perez, 301-415-3808.
Northern States Power Company—Minnesota; Prairie Island Nuclear Generating Plant, Units 1 and 2; Goodhue County, MN; Northern States Power Company; Monticello Nuclear Generating Plant; Wright County, MN
Docket No(s) | 50-282, 50-306, 50-263.
Application date | November 15, 2021.
ADAMS Accession No | ML21320A226.
Location in Application of NSHC | Pages 21-23 of Enclosure 1.
Brief Description of Amendment(s) | The proposed amendments would revise the Emergency Plans for Monticello Nuclear Generating Plant and Prairie Island Nuclear Generating Plant, Units 1 and 2. The proposed revisions to the Emergency Plans would adopt a fleet Standard Emergency Plan, replace the existing near-site emergency offsite facilities (EOFs) and their common backup EOFs with a centrally located consolidated EOF at Xcel Energy Headquarters. The proposed amendments would also maintain the emergency notification system function in the site technical support centers rather than transferring the function to the EOF and updates staffing numbers and duties to conform with NUREG-0654 “Criteria for Preparation and Evaluation of Radiological Emergency Response Plans and Preparedness in Support of Nuclear Power Plants.”
Proposed Determination | NSHC.
Name of Attorney for Licensee, Mailing Address | Peter M. Glass, Assistant General Counsel, Xcel Energy, 414 Nicollet Mall—401-8, Minneapolis, MN 55401.
NRC Project Manager, Telephone Number | Robert Kuntz, 301-415-3733.
Southern Nuclear Operating Company, Inc.; Edwin I. Hatch Nuclear Plant, Units 1 and 2; Appling County, GA
Docket No(s) | 50-321, 50-366.
Application date | December 13, 2021.
ADAMS Accession No | ML21347A385.
Location in Application of NSHC | Pages E-6 through E-8.
Brief Description of Amendment(s) | The proposed license amendment request (LAR) would revise technical specifications (TSs) to adopt TS Task Force (TSTF) TSTF-227, involving clarification to the End of Cycle Reactor Pump Trip (EOC-RPT) Instrumentation TS, and TSTF-297, involving enhancements to Feedwater and Main Turbine High Water Level Trip, EOC-RPT, and Anticipated Transient Without Scram-RPT TS. Specifically, the proposed LAR would add notes and a new required action to allow affected feedwater pump(s) and main turbine valve(s) to be removed from service.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Edwin I. Hatch Nuclear Plant, Units 1 and 2; Appling County, GA
Docket No(s) | 50-321, 50-366.
Application date | December 6, 2021.
ADAMS Accession No | ML21340A255.
Location in Application of NSHC | Pages E-6 through E-8.
Brief Description of Amendment(s) | The proposed license amendment request would revise technical specifications (TSs) to adopt TS Task Force (TSTF)-207-A, Revision 5, “Completion Time for Restoration of Various Excessive Leakage Rates.”
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Union Electric Company; Callaway Plant, Unit No. 1; Callaway County, MO
Docket No(s) | 50-483.
Application date | December 9, 2021.
ADAMS Accession No | ML21343A092 (Package).
Location in Application of NSHC | Pages 3-5 of Attachment 1.
Brief Description of Amendment(s) | The proposed amendment would modify technical specification (TS) requirements in Callaway Plant, Unit No. 1, TS Sections 1.3 and 3.0 regarding limiting condition for operation and surveillance requirement usage. These changes are consistent with NRC-approved Technical Specifications Task Force (TSTF) Traveler TSTF-529, “Clarify Use and Application Rules.”
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.
Virginia Electric and Power Company; Surry Power Station, Units 1 and 2; Surry County, VA
Docket No(s) | 50-280, 50-281.
Application date | September 30, 2021, as supplemented by letter dated November 29, 2021.
ADAMS Accession Nos | ML21277A065, ML21334A169.
Location in Application of NSHC | Pages 14-16 of Attachment 1 included in the September 30, 2021, Submittal.
Brief Description of Amendment(s) | The proposed amendments would revise the Surry Units 1 and 2 Technical Specification, Section 3.4 “Spray Systems,” to eliminate the Refueling Water Chemical Addition Tank and allow the use of sodium tetraborate decahydrate to replace sodium hydroxide as a chemical additive (buffer) for containment sump pH control following a loss-of-coolant accident.
Proposed Determination | NSHC.
Name of Attorney for Licensee, Mailing Address | W.S. Blair, Senior Counsel, Dominion Resource Services, Inc., 120 Tredegar St., RS-2, Richmond, VA 23219.
NRC Project Manager, Telephone Number | John Klos, 301-415-5136.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table . The safety evaluation will provide the ADAMS accession numbers for the application for amendment and the Federal Register citation for any environmental assessment. All of these items can be accessed as described in the “Obtaining Information and Submitting Comments” section of this document.

License Amendment Issuance(s)
Arizona Public Service Company, et al; Palo Verde Nuclear Generating Station, Units 1, 2, and 3; Maricopa County, AZ
Docket No(s) | 50-528, 50-529, 50-530.
Amendment Date | December 22, 2021.
ADAMS Accession No | ML21347A003.
Amendment No(s) | 217 (Unit 1), 217 (Unit 2), and 217 (Unit 3).
Brief Description of Amendment(s) | The amendments revised Technical Specification 5.5.16, “Containment Leakage Rate Testing Program,” to allow the following: Change the existing Type A integrated leakage rate test program test interval to 15 years in accordance with Nuclear Energy Institute (NEI) Topical Report NEI 94-01, Revision 3-A, “Industry Guideline for Implementing Performance-Based Option of 10 CFR part 50, Appendix J [“Primary Reactor Containment Leakage Testing for Water-Cooled Power Reactors”], and the limitations and conditions specified in NEI 94-01, Revision 2-A; adopt an extension of the containment isolation valve leakage rate testing (Type C) frequency from the 60 months currently permitted by 10 CFR part 50, Appendix J, Option B, to 75 months for Type C leakage rate testing of selected components, in accordance with NEI 94-01, Revision 3-A; adopt the use of American National Standards Institute/American Nuclear Society (ANSI/ANS) 56.8-2002, “Containment System Leakage Testing Requirements”; and adopt a more conservative allowable test interval extension of 9 months, for Type A, Type B, and Type C leakage rate tests in accordance with NEI 94-01, Revision 3-A.
Public Comments Received as to Proposed NSHC (Yes/No) | No.
Dominion Energy South Carolina, Inc.; Virgil C. Summer Nuclear Station, Unit 1, Fairfield County, SC
Docket No(s) | 50-395.
Amendment Date | December 28, 2021.
ADAMS Accession No | ML21319A262.
Amendment No(s) | 220.
Brief Description of Amendment(s) | The amendment revised the Virgil C. Summer Nuclear Station, Unit 1, Technical Specification 6.3, “Unit Staff Qualifications,” by relocating the unit staff qualifications to the Dominion Energy Nuclear Facility Quality Assurance Program Description consistent with guidance contained in the NRC Administrative Letter 95-06, “Relocation of Technical Specification Administrative Controls to Quality Assurance.”
Public Comments Received as to Proposed NSHC (Yes/No) | No.
Entergy Operations, Inc.; Arkansas Nuclear One, Unit 2; Pope County, AR
Docket No(s) | 50-368.
Amendment Date | December 17, 2021.
ADAMS Accession No | ML21225A055.
Amendment No(s) | 327.
Brief Description of Amendment(s) | The amendment revised the Arkansas Nuclear One, Unit 2 technical specifications (TSs) to include the provisions of Limiting Condition for Operation (LCO) 3.0.6 in the Improved Standard Technical Specifications. In support of this change, the amendment also added a new Safety Function Determination Program to the Administrative Controls section of the TSs; added new notes and actions that direct entering the actions for the appropriate supported systems; and made changes to LCO 3.0.2.
Public Comments Received as to Proposed NSHC (Yes/No) | No.
Exelon Generation Company, LLC; Calvert Cliffs Nuclear Power Plant, Unit 1; Calvert County, MD; Exelon Generation Company, LLC; Calvert Cliffs Nuclear Power Plant, Unit 2; Calvert County, MD
Docket No(s) | 50-317, 50-318.
Amendment Date | December 14, 2021.
ADAMS Accession No | ML21299A005.
Amendment No(s) | 340 (Unit 1) and 318 (Unit 2).
Brief Description of Amendment(s) | The amendments revised Technical Specification (TS) 3.5.2, “ECCS [Emergency Core Cooling System]—Operating,” TS 3.5.3, “ECCS—Shutdown,” and TS 5.5.15, “Safety Function Determination Program (SFDP).” The changes also added a new TS, “Containment Emergency Sump,” to Section 3.6, “Containment Systems.” The changes are based on Technical Specifications Task Force Traveler TSTF-567, Revision 1, “Add Containment Sump TS to Address GSI [Generic Safety Issue]—191 Issues,” dated August 2, 2017 (ADAMS Accession No. ML17214A813).
Public Comments Received as to Proposed NSHC (Yes/No) | No.
Nebraska Public Power District; Cooper Nuclear Station; Nemaha County, NE
Docket No(s) | 50-298.
Amendment Date | December 20, 2021.
ADAMS Accession No | ML21340A236.
Amendment No(s) | 270.
Brief Description of Amendment(s) | The amendment revised the Cooper Nuclear Station technical specifications related to reactor pressure vessel (RPV) water inventory control (WIC) based on Technical Specifications Task Force (TSTF) Traveler TSTF 582, Revision 0, “RPV WIC Enhancements.”
Public Comments Received as to Proposed NSHC (Yes/No) | No.
Southern Nuclear Operating Company, Inc.; Joseph M. Farley Nuclear Plant, Units 1 and 2; Houston County, AL; Southern Nuclear Operating Company, Inc.; Vogtle Electric Generating Plant, Units 1 and 2; Burke County, GA
Docket No(s) | 50-348, 50-364, 50-424, 50-425.
Amendment Date | January 5, 2022.
ADAMS Accession No | ML21316A055.
Amendment No(s) | 238 (Farley, Unit 1), 235 (Farley, Unit 2), 211 (Vogtle, Unit 1), and 194 (Vogtle, Unit 2).
Brief Description of Amendment(s) | The amendments revised the Joseph M. Farley, Units 1 and 2, and Vogtle Electric Generating Plant, Units 1 and 2, “Steam Generator (SG) Program” and “Steam Generator (SG) Tube Inspection Report” technical specifications based on Technical Specifications Task Force (TSTF) Traveler TSTF 577, Revision 1, “Revised Frequencies for Steam Generator Tube Inspections” (TSTF 577) (ADAMS Accession No. ML21060B434), and the associated NRC staff safety evaluation of TSTF 577 (ADAMS Accession No. ML21098A188). The amendments were processed under the Consolidated Line Item Improvement Process.
Public Comments Received as to Proposed NSHC (Yes/No) | No.
Tennessee Valley Authority; Watts Bar Nuclear Plant, Units 1 and 2; Rhea County, TN
Docket No(s) | 50-390, 50-391.
Amendment Date | December 16, 2021.
ADAMS Accession No | ML21271A137.
Amendment No(s) | 150 (Unit 1) and 58 (Unit 2).
Brief Description of Amendment(s) | The amendments revised Watts Bar Nuclear Plant, Units 1 and 2 Technical Specification Surveillance Requirement 3.6.15.4, by revising the shield building annulus pressure requirement, replacing the inleakage requirement with a time requirement, and deleting the shield building inleakage requirement of less than or equal to 250 cubic feet per minute.
Public Comments Received as to Proposed NSHC (Yes/No) | No.
Union Electric Company; Callaway Plant, Unit No. 1; Callaway County, MO
Docket No(s) | 50-483.
Amendment Date | December 29, 2021.
ADAMS Accession No | ML21344A005.
Amendment No(s) | 226.
Brief Description of Amendment(s) | The amendment revised the Callaway Renewed Facility Operating License No. NPF 30 to add a new license condition to allow for the implementation of 10 CFR 50.69, “Risk-informed categorization and treatment of structures, systems and components for nuclear power reactors.”
Public Comments Received as to Proposed NSHC (Yes/No) | Yes.
Virginia Electric and Power Company, Dominion Nuclear Company; North Anna Power Station, Units 1 and 2; Louisa County, VA
Docket No(s) | 50-338, 50-339.
Amendment Date | December 22, 2021.
ADAMS Accession No | ML21323A174.
Amendment No(s) | 289 and 272.
Brief Description of Amendment(s) | The amendments change the requirements of Technical Specification 2.1.1.2 to reflect the peak fuel centerline melt temperature specified in Topical Report WCAP-17642-P-A, Revision 1, “Westinghouse Performance Analysis and Design Model (PAD5).”
Public Comments Received as to Proposed NSHC (Yes/No) | No.

Dated: January 11, 2022.
For the Nuclear Regulatory Commission.
Bo M. Pham,
Director, Division of Operating Reactor Licensing, Office of Nuclear Reactor Regulation.

[FR Doc. 2022-00765 Filed 1-24-22; 8:45 am]

BILLING CODE 7590-01-P